DEPARTMENT OF EDUCATION

Privacy Act of 1974; Computer Matching Program

AGENCY: Department of Education .

ACTION: Notice—Computer Matching between the Department of Education and the Department of Justice.

SUMMARY: Section 421(a)(1) of the Controlled Substances Act (21 U.S.C. 862(a)(1)) includes provisions regarding the judicial denial of Federal benefits. Section 421 of the Controlled Substances Act, which was originally enacted as section 5301 of the Anti-Drug Abuse Act of 1988, but amended and redesignated as section 421 of the Controlled Substances Act by section 1002(d) of the Crime Control Act of 1990, Public Law 101-647 (hereinafter referred to as “Section 5301”) authorizes Federal and State judges to deny certain Federal benefits (including student financial assistance under Title IV of the Higher Education Act of 1965, as amended (HEA)) to individuals convicted of drug trafficking or possession.

In order to ensure that HEA Title IV student financial assistance is not awarded to individuals subject to denial of benefits under court orders issued pursuant to section 5301, the Department of Justice and the Department of Education implemented a computer matching program. The 18-month computer matching agreement (CMA) was recertified for an additional 12 months on December 18, 2004. The 12-month recertification of the CMA will automatically expire on December 18, 2005.

The Department of Education must continue to obtain from the Department of Justice identifying information regarding individuals who are the subject of section 5301 denial of benefits court orders. The purpose of this notice is to announce the continued operation of the computer matching program and to provide certain required information concerning the computer matching program.

In accordance with the Privacy Act of 1974 (5 U.S.C. 552a), as amended by the Computer Matching and Privacy Protection Act of 1988 (Pub. L. 100-503), Office of Management and Budget (OMB) Guidelines on the Conduct of Matching Programs (see 54 FR 25818, June 19, 1989), and OMB Circular A-130, the following information is provided:

1. Names of Participating Agencies. The Department of Education (ED) (recipient agency) and the Department of Justice (DOJ) (source agency).

2. Purpose of the Match. This matching program is designed to assist ED in enforcing the sanctions imposed under section 5301.

3. Authority for Conducting the Matching Program. Under section 5301, ED must deny Federal benefits to any individual upon whom a Federal or State court order has imposed a penalty denying eligibility for those benefits. Student financial assistance under Title IV of the HEA is a Federal benefit under section 5301 and ED must, in order to meet its obligations under the HEA, have access to information about individuals who have been declared ineligible under section 5301.

The President's plan for immediate implementation of section 5301 (Pub. L. 100-690), as transmitted to the Congress on August 30, 1989 in accordance with section 5301(g), directed DOJ to act as an information clearinghouse for Federal agencies. While DOJ provides information about section 5301 individuals who are ineligible for Federal benefits to the General Services Administration (GSA) for inclusion in GSA's List of Parties Excluded from Federal Procurements and Nonprocurement Programs, DOJ and ED have determined that matching against the DOJ database is more efficient and effective than access to the GSA List. The DOJ database has specific information about the Title IV, HEA programs for which individuals are ineligible as well as the expiration of the debarment period, making the DOJ database more complete than the GSA List. Both of these elements are essential for a successful match.

4. Categories of Records and Individuals Covered by the Match. ED will submit for verification, records from its Central Processing System files (Federal Student Aid Application File (18-11-01)), the social security number (SSN), and other identifying information for each applicant for HEA Title IV student financial assistance. ED will use the SSN, date of birth, and the first two letters of an applicant's last name for the match.

The DOJ Denial of Federal Benefits Clearinghouse System (DEBAR) (OJP-0013) contains the names, social security numbers, dates of birth, and other identifying information regarding individuals convicted of Federal or State offenses involving drug trafficking or possession of a controlled substance who have been denied Federal benefits by Federal or State courts. This system of records also contains information concerning the specific program or programs for which benefits have been denied, as well as the duration of the period of ineligibility. DOJ will make available for the matching program the records of only those individuals who have been denied Federal benefits under one or more of the Title IV, HEA programs.

5. Effective Dates of the Matching Program. The matching program will become effective on December 19, 2005; or 40 days after a report concerning the matching program has been transmitted to OMB and transmitted to the Congress along with a copy of the CMA; or 30 days after publication of this notice in the Federal Register, whichever date is last. The matching program will continue for 18 months after the effective date of the CMA and may be extended for an additional 12 months thereafter, if the conditions specified in 5 U.S.C. 552a(o)(2)(D) have been met.

6. Address for Receipt of Public Comments or Inquiries. Ms. Marya Dennis, Management and Program Analyst, U.S. Department of Education, Federal Student Aid, Union Center Plaza, 830 First Street, NE., Washington, DC 20202-5454. Telephone: (202) 377-3385. If you use a telecommunications device for the deaf (TDD), you may call the Federal Relay Service (FRS) at 1-800-877-8339.

Individuals with disabilities may obtain this document in an alternative format (e.g., Braille, large print, audiotape or computer diskette) on request to the contact person listed in the preceding paragraph.

Electronic Access to This Document

You may view this document, as well as all other Department of Education documents published in the Federal Register in text or Adobe Portable Document Format (PDF) on the Internet at the following site: www.ed.gov/news/fedregister.

To use PDF you must have Adobe Acrobat Reader, which is available free at this site. If you have questions about using PDF, call the U.S. Government Printing Office (GPO), toll free at 1-888-293-6498, or in the Washington, DC, area at (202) 512-1530.

Note: The official version of this document is the document published in the Federal Register. Free Internet access to the official edition of the Federal Register and the Code of Federal Regulations is available on GPO access at: http://www.gpoaccess.gov/nara/index.html.

Authority: 21 U.S.C. 862(a)(1); 5 U.S.C. 552a.

Dated: October 18, 2005.
Theresa S. Shaw,
Chief Operating Officer, Federal Student Aid.

[FR Doc. 05-21305 Filed 10-24-05; 8:45 am]

BILLING CODE 4000-01-P